DEPARTMENT OF COMMERCE

National Oceanic and Atmospheric Administration

50 CFR Part 660

[Docket No. 060824226-6322-02]

RIN 0648-AX43

Magnuson-Stevens Act Provisions; Fisheries Off West Coast States; Pacific Coast Groundfish Fishery; Biennial Specifications and Management Measures; Inseason Adjustments

AGENCY: National Marine Fisheries Service (NMFS), National Oceanic and Atmospheric Administration (NOAA), Commerce.

ACTION: Final rule; inseason adjustments to biennial groundfish management measures; request for comments.

SUMMARY: This final rule announces inseason changes to management measures in the commercial Pacific Coast groundfish fisheries. These actions, which are authorized by the Pacific Coast Groundfish Fishery Management Plan (FMP), are intended to allow fisheries to access more abundant groundfish stocks while protecting overfished and depleted stocks.

DATES: Effective 0001 hours (local time) December 1, 2008. Comments on this final rule must be received no later than 5 p.m., local time on December 26, 2008.

ADDRESSES: You may submit comments, identified by RIN 0648-AX43 by any one of the following methods:

• Electronic Submissions: Submit all electronic public comments via the Federal eRulemaking Portal http://www.regulations.gov.

• Fax: 206-526-6736, Attn: Gretchen Arentzen.

• Mail: D. Robert Lohn, Administrator, Northwest Region, NMFS, 7600 Sand Point Way NE, Seattle, WA 98115-0070, Attn: Gretchen Arentzen.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter “N/A” in the required fields, if you wish to remain anonymous). Attachments to electronic comments will be accepted in Microsoft Word, Excel, WordPerfect, or Adobe PDF file formats only.

FOR FURTHER INFORMATION CONTACT: Gretchen Arentzen (Northwest Region, NMFS), phone: 206-526-6147, fax: 206-526-6736 and e-mail gretchen.arentzen@noaa.gov.

SUPPLEMENTARY INFORMATION:

Electronic Access

This final rule is accessible via the Internet at http://www.gpoaccess.gov/fr/index.html. Background information and documents are available at the Pacific Fishery Management Council's website at http://www.pcouncil.org/.

Background

The Pacific Coast Groundfish FMP and its implementing regulations at title 50 in the Code of Federal Regulations (CFR), part 660, subpart G, regulate fishing for over 90 species of groundfish off the coasts of Washington, Oregon, and California. Groundfish specifications and management measures are developed by the Pacific Fishery Management Council (Council), and are implemented by NMFS. A proposed rule to implement the 2007-2008 specifications and management measures for the Pacific Coast groundfish fishery and Amendment 16-4 of the FMP was published on September 29, 2006 (71 FR 57764). The final rule to implement the 2007-2008 specifications and management measures for the Pacific Coast Groundfish Fishery was published on December 29, 2006 (71 FR 78638). These specifications and management measures are codified in the CFR (50 CFR part 660, subpart G). The final rule was subsequently amended on: March 20, 2007 (71 FR 13043); April 18, 2007 (72 FR 19390); July 5, 2007 (72 FR 36617); August 3, 2007 (72 FR 43193); September 18, 2007 (72 FR 53165); October 4, 2007 (72 FR 56664); December 4, 2007 (72 FR 68097); December 18, 2007 (72 FR 71583); April 18, 2008 (73 FR 21057), May 9, 2008 (73 FR 26325), July 24, 2008 (73 FR 43139), October 7, 2008 (73 FR 58499), and October 14, 2008 (73 FR 60642).

Changes to current groundfish management measures implemented by this action were recommended by the Council, in consultation with Pacific Coast Treaty Indian Tribes and the States of Washington, Oregon, and California, at its November 2-7, 2008, meeting in San Diego, California. The Council recommended adjustments to current groundfish management measures to respond to updated fishery information and other inseason management needs. This action is not expected to result in greater impacts to overfished species than originally projected at the beginning of 2008. Estimated mortality of overfished and target species are the result of management measures designed to meet the Pacific Coast Groundfish FMP objective of achieving, to the extent possible, but not exceeding, OYs of target species, while fostering the rebuilding of overfished stocks by remaining within their rebuilding OYs.

Limited Entry Non-Whiting Trawl Fishery Management Measures

At their November 2008 meeting, the Council received new data and analyses on the catch of groundfish in the limited entry trawl fishery. The Council's recommendations for revising 2008 trawl fishery management measures provide additional harvest opportunities in some areas for target species with catches tracking behind projections.

Catches of petrale sole in the limited entry trawl fishery were tracking ahead of projections in spring 2008, when approximately 40 percent of the 2008 petrale sole OY was taken during the months of January and February. In response to projections that the 2008 petrale sole OY could be exceeded if the higher than projected catches continued throughout the year, the Council recommended, and NMFS implemented, precautionary reductions in petrale sole cumulative limits at their June 6-13, 2008, meeting. These reductions included a reduction in the cumulative limits for vessels using large and small footrope trawl gear from “40,000 lb (18,144 kg) per two months” to “30,000 lb (13,608 kg) per two months” in period 6 (November-December), and were intended to keep catches of petrale sole within the 2008 OY. At their September 10-14, 2008, meeting, the Council considered the most recent available fishery information and catch projections through the end of the year, which indicated that catches of petrale sole had slowed considerably from the high catches observed in January and February 2008. Therefore the Council recommended and NMFS liberalized some of the petrale sole cumulative limits that had been lowered as a precautionary measure earlier in the year (73 FR 60642, October 14, 2008).

At their November 2-7, 2008, meeting, the Council considered data that indicated that catches of petrale sole were tracking behind 2008 projections made at the Council's September 2008 meeting, and that catches of petrale sole are now projected to come in below the 2008 OY if no adjustments to RCAs or cumulative limits are made during period 6 (November-December). The Council considered the most recently available data from the Pacific Fishery Information Network (PacFIN) at their November 2-7, 2008 meeting. These data, including catches through October 25, 2008, indicated that: 1,716 mt of the 2,499 mt petrale sole OY had been taken. Increases in petrale sole cumulative trip limits were analyzed for vessels using large and small footrope trawl gear North of 40°10.00′ N. lat. and for all trawl gear types South of 40°10.00′ N. lat. Increases for target species opportunities for vessels using selective flatfish trawl gear North of 40°10.00′ N. lat. were considered, but not recommended by the Council due to the need to keep canary rockfish impacts within the 2008 canary rockfish OY.

Many cumulative trip limits are established for two-month periods. A two-month limit can be raised in the middle of the period, therefore, this increase would become effective during the two-month cumulative limit, on December 1.

Based on these analyses above, the Council recommended and NMFS is implementing an increase in the limited entry trawl fishery cumulative limits, in Period 6, effective December 1: for petrale sole taken with large and small footrope gears North of 40°10.00′ N. lat. from “45,000 lb (20,412 kg) per two months” to “60,000 lb (27,216 kg) per two months”; and for petrale sole South of 40°10.00′ N. lat. from “65,000 lb (29,484 kg) per two months” to “75,000 lb (34,019 kg) per two months”.

Classification

These actions are taken under the authority of 50 CFR 660.370(c) and are exempt from review under Executive Order 12866.

These actions are taken under the authority of the Magnuson-Stevens Fishery Conservation and Management Act (Magnuson-Stevens Act), and are in accordance with 50 CFR part 660, the regulations implementing the FMP. These actions are based on the most recent data available. The aggregate data upon which these actions are based are available for public inspection at the Office of the Administrator, Northwest Region, NMFS, (see ADDRESSES) during business hours.

For the following reasons, NMFS finds good cause to waive prior public notice and comment on the revisions to the 2008 groundfish management measures under 5 U.S.C. 553(b)(B) because notice and comment would be impracticable and contrary to the public interest. Also for the same reasons, NMFS finds good cause to waive part of the 30-day delay in effectiveness pursuant to 5 U.S.C. 553(d)(3), so that this final rule may become effective December 1, 2008.

The recently available data upon which these recommendations were based was provided to the Council, and the Council made its recommendations, at its November 2-7, 2008, meeting in San Diego, California. The Council recommended that these changes be implemented on or as close as possible to December 1, 2008. There was not sufficient time after that meeting to draft this document and undergo proposed and final rulemaking before these actions need to be in effect. For the actions to be implemented in this final rule, affording the time necessary for prior notice and opportunity for public comment would prevent the Agency from managing fisheries using the best available science by approaching without exceeding the OYs for federally managed species. The adjustments to management measures in this document affect: the limited entry commercial trawl fishery off Washington, Oregon, and California. These adjustments to management measures must be implemented in a timely manner, by December 1, 2008, to: allow fishermen an opportunity to harvest higher trip limits for stocks with catch tracking behind their projected 2008 catch levels.

Changes to the petrale sole cumulative limits in the limited entry trawl fishery are needed to relieve a restriction by allowing fishermen increased opportunities to harvest available healthy stocks and to approach, but not exceed, the 2008 OY for petrale sole. They must be implemented in a timely manner by December 1, 2008, so that fishermen are allowed to harvest healthy stocks when they are available in December and meet the objective of the Pacific Coast Groundfish FMP to allow fisheries to approach, but not exceed, OYs. It would be contrary to the public interest to wait to implement these changes until after public notice and comment, because allowing this additional harvest is important to coastal communities.

Delaying these changes would keep management measures in place that are not based on the best available data which could deny fishermen access to available harvest. Such delay would impair achievement of one of the Pacific Coast Groundfish FMP objectives of providing for year-round harvest opportunities or extending fishing opportunities as long as practicable during the fishing year.

List of Subjects in 50 CFR Part 660

Fisheries, Fishing, Indian fisheries.

Dated: November 25, 2008.
Emily H. Menashes
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq.

2. Tables 3 (North) and 3 (South) to part 660, subpart G are revised to read as follows:

[FR Doc. E8-28457 Filed 11-25-08; 4:15 pm]

BILLING CODE 3510-22-S